INTERNATIONAL TRADE COMMISSION

[Investigation No. 337-TA-558]

In the Matter of Certain Personal Computer/Consumer Electronic Convergent Devices, Components Thereof, and Products Containing Same; Notice of Determination Not To Review an Initial Determination Granting Complainant's Motion To Terminate the Investigation Based on Withdrawal of the Complaint

AGENCY: U.S. International Trade Commission.

ACTION: Notice.

SUMMARY: Notice is hereby given that the U.S. International Trade Commission has determined not to review the presiding administrative law judge's (“ALJ”) initial determination (“ID”) (Order No. 30) in the above-referenced investigation granting complainant's motion to terminate the investigation based on withdrawal of the complaint.

FOR FURTHER INFORMATION CONTACT: Michelle Walters, Office of the General Counsel, U.S. International Trade Commission, 500 E Street, SW., Washington, DC 20436, telephone (202) 708-5468. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: On January 4, 2006, the Commission instituted this investigation, based on a complaint filed by InterVideo Technology Corporation of Taiwan (“InterVideo”), alleging violations of section 337 of the Tariff Act of 1930 (19 U.S.C. **1337) in the importation into the United States, the sale for importation, and the sale within the United States after importation of certain personal computer consumer electronic convergent devices, components thereof, and products containing the same by reason of infringement of claims 1-10 of United States Patent No. 6,765,788 (“the ‘788 patent”). Complainant Intervideo, through subsequent corporate mergers, now operates and is known as Corel (Taiwan) Corporation (“Corel”). The complaint named four respondents: Dell, Inc. of Texas, WinBook Computer Corporation of Ohio (“WinBook”), Cyberlink Corporation of Taiwan, and Cyberlink.com Corporation of California. WinBook has been terminated from the investigation on the basis of a settlement agreement.

On April 29, 2008, complainant Corel filed a motion to terminate the investigation based on withdrawal of the complaint in its entirety.

On May 12, 2008, the ALJ issued the subject ID, granting complainant's motion to terminate the investigation. No petitions for review were filed.

The Commission has determined not to review the ID.

The authority for the Commission's determination is contained in section 337 of the Tariff Act of 1930, as amended (19 U.S.C. 1337), and in sections 210.21(a)(1) and 210.42 of the Commission's Rules of Practice and Procedure (19 CFR 210.21(a)(1) and 210.42).

By order of the Commission.
Issued: May 30, 2008.
Marilyn R. Abbott,
Secretary to the Commission.

[FR Doc. E8-12600 Filed 6-4-08; 8:45 am]

BILLING CODE 7020-02-P